DEPARTMENT OF COMMERCE

International Trade Administration

Aerospace Supplier Development Mission to China; Recruitment Reopened for Additional Applications

AGENCY: International Trade Administration, Department of Commerce.

ACTION: Notice.

Timeframe for Recruitment and Applications

Mission recruitment will be conducted in an open and public manner, including publication in the Federal Register, posting on the Commerce Department trade mission calendar (http://www.ita.doc.gov/doctm/tmcal.html) and other Internet web sites, press releases to general and trade media, direct mail, notices by industry trade associations and other multiplier groups, and publicity at industry meetings, symposia, conferences, and trade shows.

The recruitment has reopened and the deadline for additional applications is extended to September 29, 2010. The U.S. Department of Commerce will review all additional applications after the deadline. We will inform applicants of selection decisions as soon as possible after the deadline. Applications received after the deadline will be considered only if space and scheduling constraints permit.

Companies who have already applied do not need to reapply.

Contacts

U.S. Commercial Service Domestic Contact

Lisa Huot, 202-482-2796, Lisa.Huot@trade.gov.

Lisa Huot,
Trade Promotion Programs, International Trade Specialist, U.S. Commercial Service.

[FR Doc. 2010-24637 Filed 9-30-10; 8:45 am]

BILLING CODE P